FEDERAL COMMUNICATIONS COMMISSION

[WC Docket No. 04-36, CG Docket No. 03-123, WT Docket No. 96-198 and CC Docket No. 92-105; DA 07-4178]

IP-Enabled Services; Implementation of Sections 255 and 251(a)(2) of The Communications Act of 1934, as Enacted by The Telecommunications Act of 1996: Access to Telecommunications Service, Telecommunications Equipment and Customer Premises Equipment by Persons With Disabilities; Telecommunications Relay Services and Speech-to-Speech Services for Individuals With Hearing and Speech Disabilities; The Use of N11 Codes and Other Abbreviated Dialing Arrangements

AGENCY: Federal Communications Commission.

ACTION: Notice.

SUMMARY: In this document, the Commission seeks comment on petitions filed by the Voice on the Net (VON) Coalition, the United States Telecom Association (USTelecom), and Hamilton Telephone Company (Hamilton) seeking a stay or waiver of certain aspects of the Commission's Voice Over Internet Protocol (VoIP) Telecommunications Relay Services (TRS) Order (VoIP TRS Order). In particular, the Commission seeks comment on technical solutions to the ability of interconnected VoIP providers to route all 711 calls to an appropriate relay center and to the ability of a relay center to identify the appropriate public safety answering point (PSAP) to call when receiving an emergency call via 711 abbreviated TRS dialing access and an interconnected VoIP service. The Commission expects that interested parties will work together to achieve technical solutions that will enable emergency 711 calls placed through interconnected VoIP providers to be handled in accordance with the Commission's emergency call handling procedures.

DATES: Comments are due on or before December 3, 2007. Reply comments are due on or before December 17, 2007.

ADDRESSES: Interested parties may submit comments and reply comments identified by [WC Docket No. 04-36, CG Docket No. 03-123, WT Docket No. 96-198 and CC Docket No. 92-105], by any of the following methods:

• Federal eRulemaking Portal: http://www.regulations.gov. Follow the instructions for submitting electronic filings.

• Federal Communications Commission's Electronic Comment Filing System (ECFS): http://www.fcc.gov/cgb/ecfs/. Follow the instructions for submitting electronic filings.

• By filing paper copies.

• For electronic filers through ECFS or the Federal eRulemaking Portal, because multiple docket numbers appear in the caption of this proceeding, filers must transmit one electronic copy of the comments to each docket number referenced in the caption. In completing the transmittal screen, filers should include their full name, U.S. Postal Service mailing address, and the applicable docket numbers, which in this instance are [WC Docket No. 04-36, CG Docket No. 03-123, WT Docket No. 96-198 and CC Docket No. 92-105]. Parties may also submit an electronic comment by Internet e-mail. To get filing instructions, filers should send an e-mail to ecfs@fcc.gov, and include the following words in the body of the message, “get form <your e-mail address>.” A sample form and directions will be sent in response.

• Paper Filers: Parties who choose to file by paper must file an original and four copies of each filing. Because more than one docket number appears in the caption of this proceeding, filers must submit two additional copies for each additional docket number. Filings can be sent by hand or messenger delivery, by commercial overnight courier, or by first-class or overnight U.S. Postal Service mail (although the Commission continues to experience delays in receiving U.S. Postal Service mail). All filings must be addressed to the Commission's Secretary, Office of the Secretary, Federal Communications Commission.

• Parties who choose to file by paper should also submit their filings on compact disc. The compact disc should be submitted, along with three paper copies, to: Dana Wilson, Consumer and Governmental Affairs Bureau, Disability Rights Office, 445 12th Street, SW., Room 3-C418, Washington, DC 20554. The compact disc should be formatted in an IBM compatible format using Word 2003 or a compatible software; accompanied by a cover letter; submitted in “read only” mode; and clearly labeled with the commenter's name, proceeding (including the docket numbers in this case [WC Docket No. 04-36, CG Docket No. 03-123, WT Docket No. 96-198 and CC Docket No. 92-105]), type of pleading (comment or reply comment), date of submission, and the name of the electronic file on the compact disc. The label should also include the following phrase “Disc Copy—Not an Original.” Each compact disc should contain only one party's pleading, preferably in a single electronic file. In addition, paper filers must send one copy of each compact disc to the Commission's duplicating contractor at Portals II, 445 12th Street, SW., Room CY-B402, Washington, DC 20554.

• The Commission's contractor will receive hand-delivered or messenger-delivered filings for the Commission's Secretary at 236 Massachusetts Avenue, NE., Suite 110, Washington, DC 20002. The filing hours at this location are 8 a.m. to 7 p.m. All hand deliveries must be held together with rubber bands or fasteners. Any envelopes must be disposed of before entering the building.

• Commercial mail sent by overnight mail (other than U.S. Postal Service Express Mail and Priority Mail) must be sent to 9300 East Hampton Drive, Capitol Heights, MD 20743.

• U.S. Postal Service first-class, Express, and Priority mail should be addressed to 445 12th Street, SW., Washington, DC 20554.

To request materials in accessible formats for people with disabilities (Braille, large print, electronic files, audio format), send an e-mail to fcc504@fcc.gov or call the Consumer and Governmental Affairs Bureau at (202) 418-0530 (voice), (202) 418-0432 (TTY). Document DA 07-4178 can also be downloaded in Word or Portable Document Format (PDF) at: http://www.fcc.gov/cgb/dro/headlines.html.

Document DA 07-4178 and any subsequently filed documents in this matter will be available for public inspection and copying during regular business hours at the FCC Reference Information Center, Portals II, 445 12th Street, SW., Room CY-A257, Washington, DC 20554, (202) 418-0270. Document DA 07-4178 and any subsequently filed documents in this matter may also be purchased from the Commission's duplicating contractor at the contractor's Web site, http://www.bcpiweb.com, or by calling (800) 378-3160. Furthermore, document DA 07-4178, any subsequently filed documents in this matter, and a copy of the underlying petitions for waiver may be found by searching ECFS at http://www.fcc.gov/cgb/ecfs (insert [WC Docket No. 04-36, CG Docket No. 03-123, WT Docket No. 96-198 or CC Docket No. 92-105] into the Proceeding block).

FOR FURTHER INFORMATION CONTACT: Lisa Boehley, Consumer and Governmental Affairs Bureau, Policy Division, at (202) 418-7395 (voice), or e-mail Lisa.Boehley@fcc.gov.

SUPPLEMENTARY INFORMATION: On June 15, 2007, the Commission released the VoIP TRS Order, published at 72 FR 43546, August 6, 2007, WC Docket No. 04-36, CG Docket No. 03-123, WT Docket No. 96-198 and CC Docket No. 92-105, FCC 07-110. In the VoIP TRS Order, the Commission extended to providers of interconnected VoIP services the application of its pre-existing TRS rules under sections 225 and 255 of the Communications Act of 1934, as amended. Among other things, the VoIP TRS Order required interconnected VoIP providers to offer 711 abbreviated dialing access to TRS “to ensure that TRS calls can be made from any telephone, anywhere in the United States, and that such calls will be properly routed to the appropriate relay center.”

On September 14, 2007, the VON Coalition filed a “Motion for Stay or Waiver,” asking the Commission to stay the effective date of the TRS requirements, including the 711 dialing requirement, as applied to interconnected VoIP providers or, in the alternative, to waive those requirements.

On September 21, 2007, USTelecom filed a petition requesting a two-year waiver for interconnected VoIP providers of the requirement that they route emergency 711 calls to a TRS provider capable of determining the appropriate PSAP to call to respond to an emergency.

On September 21, 2007, Hamilton—a provider of traditional TRS services in various states—filed a request for waiver of the TRS emergency call handling requirements, as applied to traditional TRS providers' handling of 711 calls that originate on interconnected VoIP networks.

This is a summary of the Commission's public notice in document DA 07-4178, IP-Enabled Services; Implementation of Sections 255 and 251(a)(2) of The Communications Act of 1934, as Enacted by The Telecommunications Act of 1996: Access to Telecommunications Service, Telecommunications Equipment and Customer Premises Equipment by Persons with Disabilities; Telecommunications Relay Services and Speech-to-Speech Services for Individuals with Hearing and Speech Disabilities; The Use of N11 Codes and other Abbreviated Dialing Arrangements, WC Docket No. 04-36, CG Docket No. 03-123, WT Docket No. 96-198 and CC Docket No. 92-105, adopted October 9, 2007, released October 9, 2007. Document DA 07-4178 also contains a separate order granting in part and denying in part the petitions for stay or waiver filed by the VON Coalition, USTelecom, and Hamilton.

Pursuant to § 1.1206 of the Commission's rules, 47 CFR 1.1206, this matter shall be treated as a “permit-but-disclose” proceeding in which ex parte communications are subject to disclosure.

Synopsis

In document DA 07-4178, the Commission seeks comment on the petitions for stay or waiver filed by the VON Coalition, USTelecom, and Hamilton. In particular, the Commission seeks comment on technical solutions to the ability of interconnected VoIP providers to route all 711 calls to an appropriate relay center—defined as the relay center(s) serving the state in which the caller is geographically located, or the relay center(s) corresponding to the caller's last registered address—and to the ability of a relay center to identify the appropriate PSAP to call when receiving an emergency call via 711 and an interconnected VoIP service.

The Commission expects that interconnected VoIP providers, relay service providers, and members of the industry and community will work closely together to achieve a solution as expeditiously as possible that will enable emergency 711 calls placed through interconnected VoIP providers to be handled in accordance with the Commission's emergency call handling procedures.

Federal Communications Commission.
Catherine W. Seidel,
Chief, Consumer and Governmental Affairs Bureau.

[FR Doc. E7-21523 Filed 10-31-07; 8:45 am]

BILLING CODE 6712-01-P